DEPARTMENT OF ENERGY

Federal Energy Regulatory Commission

[Docket No. EL19-60-000]

City of Prescott, Arkansas v. Southwestern Electric Power Company, and Midcontinent Independent System Operator, Inc.; Notice of Complaint

Take notice that on April 5, 2019, pursuant to section 206, 306, and 309 of the Federal Power Act, 16 U.S.C. 824e, 825e, and 825h, and Rule 206 and 212 of the Federal Energy Regulatory Commission's (Commission) Rules of Practice and Procedure, 18 CFR 385.206 and 385.212, the City of Prescott, Arkansas (Complainant) filed a formal complaint against Southwestern Electric Power Company (SWEPCO) and Midcontinent Independent System Operator, Inc. (MISO) (collectively Respondents) alleging that, (a) the Power Supply Agreement (PSA) is unjust and unreasonable and should be amended in certain respects or terminated; (b) the PSA requires SWEPCO to implement the effective MISO congestion hedging strategy; or, in the alternative, that the PSA violates the public interest by depriving the Complainant of an effective hedge for MISO congestion charges and justifies termination of the PSA; and (c) MISO violated the Joint Operating Agreement between MISO and Southwest Power Pool (SPP) with respect to the assessment of certain congestion charges associated with SWEPCO loads that are pseudo-tied out of MISO and into SPP, all as more fully explained in the complaint.

The Complainant certifies that copies of the complaint were served on the contacts listed for Respondent in the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondents' answer and all interventions, or protests must be filed on or before the comment date. The Respondents' answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on April 25, 2019.

Dated: April 5, 2019.
Kimberly D. Bose,
Secretary.

[FR Doc. 2019-07223 Filed 4-11-19; 8:45 am]

BILLING CODE 6717-01-P